DEPARTMENT OF DEFENSE

Office of the Secretary

Defense Business Board; Notice of Federal Advisory Committee Meeting

AGENCY: Department of Defense (DoD).

ACTION: Notice of Federal advisory committee meeting.

SUMMARY: The DoD is publishing this notice to announce that the following Federal advisory committee meeting of the Defense Business Board (“the Board”) will take place.

DATES: Closed to the public Tuesday, November 12, 2024 from 7:45 a.m. to 9:45 a.m., 10:55 a.m. to 11:30 a.m., and 4 p.m. to 5 p.m., and Wednesday, November 13, 2024 from 8 a.m. to 9:05 a.m. Open to the public Tuesday, November 12, 2024 from 10 a.m. to 10:55 a.m. and 1:30 p.m. to 4 p.m., and Wednesday, November 13, 2024 from 9:45 a.m. to 11 a.m. All eastern time.

ADDRESSES: The open and closed portions of the meeting will be held in room B4 of the Pentagon Library Conference Center (PLCC), virtually (for public attendance of open portions), room 1E840 in the Pentagon, and Arlington National Cemetery, Arlington, VA.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: Due to circumstances beyond the control of the Designated Federal Officer, the Defense Business Board was unable to provide public notification required by 41 CFR 102-3.150(a) concerning its November 12-13, 2024 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”); 5 U.S.C. 552b(c); and 41 Code of Federal Regulations (CFR) 102-3.140 and 102-3.150.

Purpose of the Meeting: The mission of the Board is to examine and advise the Secretary and Deputy Secretary of Defense on overall DoD management and governance. The Board provides independent, strategic-level, private sector and academic advice and counsel on enterprise-wide business management approaches and best practices for business operations and achieving National Defense goals.

Agenda: The Board will begin in closed session in the PLCC, room B4, on November 12 from 7:45 a.m. to 9:45 a.m. The DFO will begin the closed session followed by a welcome by Board Chair, Hon. Deborah James. The Board will receive a classified discussion on the Department's accomplishments across a range of initiatives since 2021, in the areas of capabilities, acquisitions, personnel, and business processes from Hon. Kathleen Hicks, Deputy Secretary of Defense. Next, the Board will receive a classified discussion on “National Defense Industrial Strategy Implementation Plan” from Hon. Laura Taylor-Kale, Assistant Secretary for Industrial Base Policy, Office of the Under Secretary of Defense for Acquisition and Sustainment. This discussion will discuss the progress on implementing the National Defense Industrial Strategy, including key investments and initiatives to secure and make more resilient the supply chains upon which the Department depends. The DFO will adjourn the closed session. The Board will convene in open session from 10 a.m. to 10:55 a.m. The DFO will begin the open session followed by a discussion on “Using Strategic Capital for National Security” from Dr. Jason Rathje, Director, Office of Strategic Capital (OSC). This discussion will focus on the strategies and partnerships that OSC is using to accelerate and scale private investment for national security to support critical technology areas and improve supply chains. The DFO will adjourn the open session. The DFO will reconvene a closed session from 10:55 a.m. to 11:30 a.m., and the Board will receive a classified discussion on “DoD Current Affairs” from Hon. Lloyd Austin, Secretary of Defense. The discussion with Secretary Austin will focus on the state of the current global security environment and its implications for current and future business operations. The DFO will adjourn the closed session and the Board will break for lunch. The Board will convene in open session from 1:30 p.m. to 4 p.m. The DFO will begin the open session followed by a briefing, deliberation, and vote on the study, “Industry Partnerships for Crises”, which will be presented by the Business Operations Advisory subcommittee. This session will provide the proposed findings and recommendations related to building better relationships with industry to expand capability rapidly in crises for the Board to consider. The open session will continue with a discussion on “Customer Experience Implementation Plan” from Mr. Robert G. Salesses, Deputy Director, Washington Headquarters Services (WHS). This discussion from Mr. Salesses will explore WHS' new “Customer Experience Implementation Plan”, which aims to focus the defense field activity on delivering superior customer service to their clients. The DFO will adjourn the open session. The DFO will begin the closed session from 4 p.m. to 5 p.m. The Board will receive a discussion on “Air Force and Space Force Management and Budget” from Ms. Melissa Dalton, Under Secretary of the Air Force. This discussion will brief the Board on her role in organizing, training, and equipping the Air Force and Space Force, including managing the annual budget of over $200 billion. The DFO will adjourn the closed session of the day. The Board will reconvene in a closed session on November 13 in Pentagon room 1E840 from 8 a.m. to 9:05 a.m. The DFO will begin the closed session followed by a welcome by Board Chair, Hon. Deborah James. The Board will receive a classified discussion on U.S. Special Operations Command (SOCOM) from Ms. Melissa Johnson, Acquisition Executive for U.S. Special Operations Command. This discussion will explain how SOCOM engages in acquisition, development, and supply chain management, by placing authority to act at the lowest possible level and eliminating bureaucratic barriers to entry for both established and emerging businesses. The Board will next hear a classified update from Mrs. Fern Sumpter Winbush, Principal Deputy Director for the Defense POW/MIA Accounting Agency (DPAA). This discussion will focus on the efforts in recovering unaccounted DoD personnel listed as prisoners of war and missing in action from designated past conflicts, from countries around the world, including how DPAA manages sensitive relationships with governments that have had conflicts with the U.S. to accomplish its mission. The DFO will adjourn the closed session. After a break, the Board will travel to the Arlington National Cemetery, Arlington, VA. The DFO will begin the open session. The Board will receive their final discussion from 9:45 a.m. to 11 a.m. This briefing will describe the role of the Old Guard at Arlington National Cemetery, provide a tour of the Tomb area, and observe a changing of the Guard ceremony. The tour will provide insight into how rigorous and uncompromising business processes produce one of the military's most precise, disciplined units. This is a publicly available tour and subject to any capacity limitations and security procedures required by the Cemetery of all visitors. The DFO will adjourn the meeting. The latest version of the agenda is available on the Board's website at: https://dbb.dod.afpims.mil/Meetings/Meeting-November-2024/.

Meeting Accessibility: In accordance with 5 U.S.C. 1009(d) and 41 CFR 102-3.155, it is hereby determined that portions of the November 12—13 meeting of the Board will include classified information and other matters covered by 5 U.S.C. 552b(c)(1) and that, accordingly, those portions of the meeting will be closed to the public on Tuesday, November 12, 2024 from 7:45 a.m. to 9:45 a.m., 10:55 a.m. to 11:30 a.m. and 4 p.m. to 5 p.m. and closed to the public Wednesday, November 13, 2024 from 8 a.m. to 9:05 a.m. This determination is based on the consideration that it is expected that discussions throughout those portions of the meeting will involve classified matters of national security. Such classified material is so intertwined with the unclassified material that it cannot reasonably be segregated into separate discussions without defeating the effectiveness and meaning of those portions of the meeting. To permit those portions to be open to the public would preclude discussion of such matters and would greatly diminish the ultimate utility of the Board's findings and recommendations to the Secretary of Defense and the Deputy Secretary of Defense. Pursuant to 5 U.S.C. 1009(a)(1) and 41 CFR 102-3.140, the portions of the meeting on November 12 from 10 a.m. to 10:55 a.m. and 1:30 p.m. to 4 p.m. are open to the public virtually. The portion of the meeting on November 13 from 9:45 a.m. to 11 a.m. is open to the public at Arlington National Cemetery. The Board will gather at the Tomb of the Unknown Soldier. Persons desiring to attend the public portions are required to register. To attend the public portions of the meeting, submit your name, affiliation/organization, telephone number, and email contact information to the Board at osd.pentagon.odam.mbx.defense-business-board@mail.mil. Requests to attend the public portions must be received no later than 4 p.m. on Thursday, November 7, 2024. Upon receipt of this information, the Board will provide further instructions for virtually attending the meeting.

Written Comments and Statements: Pursuant to 41 CFR 102-3.105(j) and 102-3.140 and 5 U.S.C. 1009(a)(3), the public or interested organizations may submit written comments or statements to the Board in response to the stated agenda of the meeting or regarding the Board's mission in general. Written comments or statements should be submitted to Ms. Cara Allison Marshall, the DFO, via electronic mail (the preferred mode of submission) at the address listed in the FOR FURTHER INFORMATION CONTACT section. Each page of the comment or statement must include the author's name, title or affiliation, address, and daytime phone number. The DFO must receive written comments or statements submitted in response to the agenda set forth in this notice by 4 p.m. on Friday, November 8, 2024, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: November 13, 2024.
Aaron T. Siegel,
Alternate OSD Federal Register Liaison Officer, Department of Defense.

[FR Doc. 2024-26843 Filed 11-15-24; 8:45 am]

BILLING CODE 6001-FR-P